DEPARTMENT OF COMMERCE

National Oceanic and Atmospheric Administration

[Docket No. 070426092-7092-01; I.D. 043007B]

Program for Professional Development of Educators in Atmospheric and Ocean Sciences

AGENCY: Office of Education (OED), Office of the Undersecretary of Commerce for Oceans and Atmosphere (USEC), National Oceanic and Atmospheric Administration (NOAA), Commerce.

ACTION: Notice of funding availability.

SUMMARY: NOAA's Office of Education (OED) is requesting applications to establish an institutional award for the purpose of supporting a professional development program for pre-service and in-service educators that is designed to support NOAA's mission by improving their knowledge of atmospheric and ocean sciences. The successful project will be national in scale with implementation on a local level. The project will include distance-learning and face-to-face components and allow teachers to earn graduate-level credit-hours from an accredited university in the United States. The project will involve NOAA scientists and other members of the scientific community. The successful project will build upon existing professional development courses; employ vetted classroom instructional materials; use web-based technology as a means to deliver cutting-edge scientific content directly to their target audience; and enhance teachers' ability to extract information from the web. It is anticipated that the final recommendation for funding under this announcement will be made by June 30, 2007, and that the project funded under this announcement will have a start date no earlier than September 15, 2007.

DATES: The application must be received by 5 p.m., EDT June 7, 2007.

ADDRESSES: Full applications must be submitted either through Grants.gov or as a paper application to: ATTN: Grants Competition Manager, NOAA Office of Education, U.S. Department of Commerce, 1401 Constitution Ave, NW., HCHB Room 6863, Washington, DC 20230. Please note: Hard copies submitted via the U.S. Postal Service can take up to 4 weeks to reach this office; applicants are recommended to send hard copies via expedited shipping methods (e.g., Airborne Express, DHL, FedEx, UPS)

FOR FURTHER INFORMATION CONTACT: Sarah Schoedinger at sarah.schoedinger@noaa.gov, telephone 704-370-3528 or Alyssa Gundersen at Alyssa.Gundersen@noaa.gov, telephone 202-482-3739.

SUPPLEMENTARY INFORMATION: NOAA's Office of Education (OED) is requesting applications to establish an institutional award for the purpose of supporting an ongoing professional development program in the fields of atmospheric and ocean sciences for pre-service and in-service educators. The intent of this award is to establish and maintain a long-term partnership between NOAA and the recipient organization. The goals of this project must meet OED's long-term goals and objectives common to the programmatic needs of both parties by employing the relevant strategies articulated in the NOAA Education Plan (http://www.oesd.noaa.gov/NOAA_Ed_Plan.pdf).

Proposed projects should include components designed to improve teachers' understanding of the Earth System through ocean and/or atmospheric studies, incorporate existing NOAA data and educational materials, and include realistic and relevant inquiry-based learning experiences using on-line data products. Proposed projects should address one or more of the goals articulated in the NOAA Education Plan, build upon existing professional development programs, involve partnerships among academic institutions and professional scientific organizations, and have an evaluation that both monitors the quality of the experience for the participants and also the impact of the program on the participants. Projects should be designed to generate and sustain a network of educators that allows for rapid, but sustainable program growth during the project period. Projects should also ensure that the content learned in the professional development courses is implemented in the classroom.

The successful project will:

—Include distance-learning and face-to-face components;

—Allow teachers to earn graduate-level credit-hours from an accredited university in the United States;

—Involve NOAA scientists and other members of the scientific community;

—Build upon existing professional development courses;

—Employ vetted classroom instructional materials;

—Use web-based technology as a means to deliver cutting-edge scientific content directly to their target audience; and

—Enhance teachers' ability to extract information from the web.

It is anticipated that the final recommendation for funding under this announcement will be made by June 30, 2007, and that the project funded under this announcement will have a start date no earlier than September 15, 2007.

Electronic Access

The full text of the full funding opportunity announcement for this OED program can be accessed via the Grants.gov web site. That announcement will also be available at the NOAA Web site: http://www.oesd.noaa.gov/funding_opps.html or by contacting the program officials identified under FOR FURTHER INFORMATION CONTACT. Applicants must comply with all requirements contained in the full funding opportunity announcement. This Federal Register notice is available through the NOAA home page at: http://www.noaa.gov/.

Statutory Authority: 15 U.S.C. 1540.

CFDA: 11.469, Congressionally Identified Awards and Projects.

Funding Availability: NOAA anticipates the availability, contingent upon appropriations, of approximately $3,000,000 of Federal financial assistance total over the five year period of FY 2007 to FY 2011 for an institutional award that will support professional development of educators related to improving their knowledge of atmospheric and ocean sciences. Approximately $600,000 will be available annually for the five year award period. Only one award in the form of a grant or cooperative agreement will be made. NOAA will only consider projects that have a duration of 5 years. The total Federal amount for all years that may be requested from NOAA for the direct and indirect costs of the proposed project shall not exceed $600,000 annually. The minimum Federal amount that must be requested from NOAA per year for the direct and indirect costs is $300,000. Applications requesting Federal support from NOAA of less than $300,000 total or more than $600,000 annually for 5 years will not be considered for funding.

The amount of funding available through this announcement will be dependent upon the final appropriations for FY 2007 through FY 2011. Publication of this notice does not oblige the Department of Commerce/National Oceanic and Atmospheric Administration (DOC/NOAA) to award any specific project or to obligate any available funds. If an applicant incurs any costs prior to receiving an award agreement approved by an authorized NOAA Grants Officer, the applicant would do so solely at one's own risk of such costs not being included under the award. The exact amount of funds that may be awarded will be determined in pre-award negotiations between the applicant and NOAA representatives.

Eligibility: Eligible applicants are institutions of higher education, other nonprofits, and state, local and Indian tribal governments in the United States. For-profit organizations, individuals not affiliated with an eligible organization, foreign institutions, foreign organizations and foreign government agencies are not eligible to apply. Federal agencies are not eligible to receive Federal assistance under this announcement, but may be project partners.

The Department of Commerce/National Oceanic and Atmospheric Administration (DOC/NOAA) is strongly committed to increasing the participation of Minority Serving Institutions (MSIs), i.e., Historically Black Colleges and Universities, Hispanic-serving institutions, Tribal colleges and universities, Alaskan Native and Native Hawaiian institutions, and institutions that work in underserved communities.

Institutions may submit only one application to this funding opportunity.

Cost Sharing Requirements: There are no cost-sharing requirements.

Evaluation and Selection Procedures: The general evaluation criteria and selection factors that apply to applications to this funding opportunity are summarized below. Further information about the evaluation criteria and selection factors can be found in the full funding opportunity announcement.

Evaluation Criteria for Projects:

1. Importance and/or relevance and applicability of proposed project to the program goals: This ascertains whether there is intrinsic value in the proposed work and/or relevance to NOAA, federal, regional, State, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The Budget is evaluated to determine if it is realistic and commensurate with the project needs and time-frame.

5. Outreach and education: NOAA assesses whether this project provides a focused and effective education and outreach strategy regarding NOAA's mission to protect the Nation's natural resources.

Review and Selection Process

Upon receipt of an application by NOAA, an initial administrative review will be conducted to determine compliance with requirements and completeness of the application. All applications that meet the minimum eligibility requirements and that are ascertained to be complete will be evaluated and scored by independent reviewers. The reviews will be conducted by a panel of individuals, who may be government or non-government representatives, each having relevant expertise. The reviewers will score each proposal using the evaluation criteria and relative weights provided above. The individual reviewers' ratings will be averaged for each application to establish rank order. No consensus advice will be given by the review panel. The Program Officer will neither vote nor score applications as part of the review panel nor participate in discussion of the merits of any proposal.

The Program Officer will make his/her recommendations for funding based on rank order and the selection factors listed below to the Selecting Official for the final funding decision.

Selection Factors for Projects

The panel review ratings shall establish the rank order that the Selecting Official will use for final recommendation to the NOAA Grants Officer. The Selecting Official shall award in the rank order unless the proposal is justified to be selected out of rank order based upon one or more of the following factors:

1. Availability of funding.

2. Balance/distribution of funds:

a. Geographically

b. By type of institutions

c. By type of partners

d. By research areas

e. By project types

3. Whether this project duplicates other projects funded or considered for funding by NOAA or other Federal agencies.

4. Program priorities and policy factors.

5. Applicant's prior award performance.

6. Partnerships and/or Participation of targeted groups.

7. Adequacy of information necessary for NOAA staff to make a NEPA determination and draft necessary documentation before recommendations for funding are made to the Grants Officer.

Intergovernmental Review

Applications under this program are not subject to Executive Order 12372, ”Intergovernmental Review of Federal Programs.”

Limitation of Liability

In no event will NOAA or the Department of Commerce be responsible for proposal preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements

The Department of Commerce Pre-Award Notification Requirements for Grants and Cooperative Agreements contained in the Federal Register notice of December 30, 2004 (69 FR 78389), are applicable to this solicitation.

Paperwork Reduction Act

This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001.

Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: May 2, 2007.
Daniel Clever,
Deputy Director, NOAA Acquisitions and Grants, U.S. Department of Commerce.

[FR Doc. E7-8715 Filed 5-7-07; 8:45 am]

BILLING CODE 3510-12-P